DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: August 10, 2016.
Roy E. Wright,
Deputy Associate Administrator for Insurance and Mitigation, Department of Homeland Security, Federal Emergency Management Agency.

State and county | Location and case No. | Chief executive officer of community | Community map repository | Effective date of modification | Community No.
Arizona:
Maricopa (FEMA Docket No.: B-1519) | City of Peoria (14-09-2988P) | The Honorable Cathy Carlat, Mayor, City of Peoria, 8401 West Monroe Street, Peoria, AZ 85345 | City Hall, 8401 West Monroe Street, Peoria, AZ 85345 | Jul. 17, 2015 | 040050
Maricopa, (FEMA Docket No.: B-1519) | City of Surprise (14-09-3931P) | The Honorable Sharon Wolcott, Mayor, City of Surprise, 16000 North Civic Center Plaza, Surprise, AZ 85374 | Community Development Services, 12425 West Bell Road, Suite D-100, Surprise, AZ 85374 | Jul. 10, 2015 | 040053
Maricopa, (FEMA Docket No.: B-1519) | Town of Buckeye (14-09-3809P) | The Honorable Jackie A. Meck, Mayor, Town of Buckeye, 530 East Monroe Avenue, Buckeye, AZ 85326 | Town Hall, 100 North Apache Street, Suite A, Buckeye, AZ 85326 | Jun. 19, 2015 | 040039
Maricopa (FEMA Docket No.: B-1519) | Unincorporated areas of Maricopa County (14-09-2988P) | The Honorable Denny Barney, Chairman, Maricopa County Board of Supervisors, 301 West Jefferson Street, 10th Floor, Phoenix, AZ 85003 | Flood Control District of Maricopa County, 2801 West Durango Street, Phoenix, AZ 85009 | Jul. 17, 2015 | 040037
Maricopa (FEMA Docket No.: B-1519) | Unincorporated areas of Maricopa County (14-09-3809P) | The Honorable Steve Chucri, Chairman, Maricopa County Board of Supervisors, 301 West Jefferson Street,, 10th Floor, Phoenix, AZ 85003 | Maricopa County Flood Control District, 2801 West Durango Street, Phoenix, AZ 85009 | Jun. 19, 2015 | 040037
Maricopa (FEMA Docket No.: B-1519) | Unincorporated areas of Maricopa County (14-09-3931P) | The Honorable Steve Chucri, Chairman, Maricopa County Board of Supervisors, 301 West Jefferson Street,, 10th Floor, Phoenix, AZ 85003 | Flood Control District of Maricopa County, 2801 West Durango Street, Phoenix, AZ 85009 | Jul. 10, 2015 | 040037
Maricopa (FEMA Docket No.: B-1519) | Unincorporated areas of Maricopa County (15-09-0581P) | The Honorable Denny Barney, Chairman, Maricopa County Board of Supervisors, 301 West Jefferson Street, Phoenix, AZ 85003 | Flood Control District of Maricopa County, 2801 West Durango Street, Phoenix, AZ 85009 | Jul. 17, 2015 | 040037
Pinal (FEMA Docket No.: B-1519) | Town of Florence (15-09-0025P) | The Honorable Tom J. Rankin, Mayor, Town of Florence, P.O. Box 2670, Florence, AZ 85132 | Department of Public Works, 425 East Ruggles, Florence, AZ 85132 | Jul. 10, 2015 | 040084
Pinal (FEMA Docket No.: B-1519) | Unincorporated areas of Pinal County (15-09-0025P) | The Honorable Cheryl Chase, Chair, Pinal County Board of Supervisors, P. O. Box 827, Florence, AZ 85132 | Pinal County Engineering Department, 31 North Pinal Street, Building F, Florence, AZ 85132 | Jul. 10, 2015 | 040077
California:
Colusa (FEMA Docket No.: B-1508) | City of Williams (14-09-4496P) | The Honorable John J. Troughton, Jr., Mayor, City of Williams, P.O. Box 310, Williams, CA 95987 | City Hall, 810 E Street, Williams, CA 95987 | Jul. 2, 2015 | 060024
Colusa (FEMA Docket No.: B-1508) | Unincorporated areas of Colusa County (14-09-4438P) | The Honorable Mark D. Marshall, Chairman, Colusa County Board of Supervisors, 547 Market Street, Suite 102, Colusa, CA 95932 | Colusa County Department of Public Works, 1215 Market Street, Colusa, CA 95932 | Jul. 2, 2015 | 060022
Colusa (FEMA Docket No.: B-1508) | Unincorporated areas of Colusa County (14-09-4496P) | The Honorable Mark D. Marshall, Chairman, Colusa County Board of Supervisors, 547 Market Street, Suite 102, Colusa, CA 95932 | Colusa County Department of Public Works, 1215 Market Street, Colusa, CA 95932 | Jul. 2, 2015 | 060022
Kern (FEMA Docket No.: B-1519) | City of Shafter (15-09-0191P) | The Honorable Cathy Prout, Mayor, City of Shafter, 336 Pacific Avenue, Shafter, CA 93263 | City Services, 336 Pacific Avenue, Shafter, CA 93263 | Jul. 16, 2015 | 060082
Los Angeles (FEMA Docket No.: B-1514) | City of Los Angeles (15-09-0550P) | The Honorable Eric Garcetti, Mayor, City of Los Angeles, 200 North Spring Street, Los Angeles, CA 90012 | Public Works Department, 1149 South Broadway, Suite 810, Los Angeles, CA 90015 | Jul. 27, 2015 | 060137
Riverside (FEMA Docket No.: B-1519) | City of Norco (15-09-0162P) | The Honorable Herb Higgins, Mayor, City of Norco, 2870 Clark Avenue, Norco, CA 92860 | City Hall, 2870 Clark Avenue, Norco, CA 92860 | Jul. 3, 2015 | 060256
Riverside (FEMA Docket No.: B-1508) | Unincorporated areas of Riverside County (15-09-0813P) | The Honorable Marion Ashley, Chairman, Riverside County Board of Supervisors, 4080 Lemon Street, 5th Floor, Riverside, CA 92501 | Riverside County Flood Control and Water Conservation District, 1995 Market Street, Riverside, CA 92501 | Jun. 8, 2015 | 060245
San Diego (FEMA Docket No.: B-1519) | City of San Diego (14-09-3825P) | The Honorable Kevin L. Faulconer, Mayor, City of San Diego, 202 C Street, 11th Floor, San Diego, CA 92101 | Development Services Center, 1222 1st Avenue, 3rd Floor, San Diego, CA 92101 | Jul. 17, 2015 | 060295
San Diego (FEMA Docket No.: B-1506) | City of San Marcos (14-09-3620P) | The Honorable Jim Desmond, Mayor, City of San Marcos, 1 Civic Center Drive, San Marcos, CA 92069 | 1 Civic Center Drive, San Marcos, CA 92069 | Jul. 13, 2015 | 060296
Ventura (FEMA Docket No.: B-1519) | City of Ojai (14-09-1496P) | The Honorable Carlon Strobel, Mayor, City of Ojai, P.O. Box 1570, Ojai, CA 93024 | City Hall, 401 South Ventura Street, Ojai, CA 93024 | Jun. 29, 2015 | 060416
Ventura (FEMA Docket No.: B-1519) | City of Simi Valley (14-09-3759P) | The Honorable Bob Huber, Mayor, City of Simi Valley, 2929 Tapo Canyon Road, Simi Valley, CA 93063 | Public Works Department, 2929 Tapo Canyon Road, Simi Valley, CA 93063 | Jul. 17, 2015 | 060421
Ventura (FEMA Docket No.: B-1519) | City of Simi Valley (14-09-3760P) | The Honorable Bob Huber, Mayor, City of Simi Valley, 2929 Tapo Canyon Road, Simi Valley, CA 93063 | Public Works Department, 2929 Tapo Canyon Road, Simi Valley, CA 93063 | Jul. 17, 2015 | 060421
Ventura (FEMA Docket No.: B-1519) | Unincorporated areas of Ventura County (14-09-1496P) | The Honorable Steve Bennett, Chairman, Ventura County Board of Supervisors, 800 South Victoria Avenue, Ventura, CA 93009 | Hall of Administration, 800 South Victoria Avenue, Ventura, CA 93009 | Jun. 29, 2015 | 060413
Ventura (FEMA Docket No.: B-1519) | Unincorporated areas of Ventura County (14-09-3759P) | The Honorable Kathy I. Long, Chair, Ventura County Board of Supervisors, 800 South Victoria Avenue, Ventura, CA 93009 | Ventura County Hall of Administration, Public Works Agency: Permit Counter, 800 South Victoria Ave., Ventura, CA 93009 | Jul. 17, 2015 | 060413
Ventura (FEMA Docket No.: B-1519) | Unincorporated areas of Ventura County (14-09-3760P) | The Honorable Kathy I. Long, Chair, Ventura County Board of Supervisors, 800 South Victoria Avenue, Ventura, CA 93009 | Ventura County Hall of Administration, Public Works Agency: Permit Counter, 800 South Victoria Ave., Ventura, CA 93009 | Jul. 17, 2015 | 060413
Nevada: Clark (FEMA Docket No.: B-1514) | City of North Las Vegas (15-09-0456P) | The Honorable John J. Lee, Mayor, City of North Las Vegas, 2250 Las Vegas Boulevard North, North Las Vegas, NV 89030 | Public Works Department, 2200 Civic Center Drive, North Las Vegas, NV 89030 | Jul. 27, 2015 | 320007
New York: Suffolk (FEMA Docket No.: B-1508) | Town of Brookhaven (15-02-0307P) | The Honorable Edward P. Romaine, Town of Brookhaven Supervisor, 1 Independence Hill, Farmingville, NY 11738 | Town Hall, 1 Independence Hill, Farmingville, NY 11738 | Jul. 16, 2015 | 365334

[FR Doc. 2015-21604 Filed 8-31-15; 8:45 am]

BILLING CODE 9110-12-P